DEPARTMENT OF TRANSPORTATION

Federal Aviation Administration

14 CFR Part 13

[Docket No. FAA-2002-11483; Amendment No. 13-33]

RIN 2120-AI52

Revisions to the Civil Penalty Inflation Adjustment Rule and Tables; Correction

AGENCY: Federal Aviation Administration (FAA), DOT.

ACTION: Final rule; correction.

SUMMARY: This document corrects an error that appeared in the previous correction to the final rule. The final rule was published in the Federal Register on May 16, 2006, (71 FR 28518). The previous correction to the final rule was published in the Federal Register on August 16, 2006, (71 FR 47077). This document also amends the regulatory language in Table One as published in the Federal Register on August 16, 2006. The May 16, 2006, final rule implements adjustments to certain civil monetary penalties under the Federal Civil Penalties Inflation Adjustment Act of 1990, as amended by the Debt Collection Improvement Act of 1996.

DATES: Effective September 6, 2006.

FOR FURTHER INFORMATION CONTACT: Joyce Redos, Office of the Chief Counsel, Enforcement Division, AGC-300, telephone (202) 267-3137; facsimile (202) 267-5106; e-mail joyce.redos@faa.gov.

SUPPLEMENTARY INFORMATION:

Need for Correction

The correction to the final rule document in the Federal Register on August 16, 2006 (71 FR 47077), contains a further error in the preamble with respect to the date the revised civil penalty amounts are to be applied. The previous correction document also introduced two typographical errors in the text of Table One. Specifically, the amendment contained an incomplete citation to 49 U.S.C. 46301(a)(2)(A) and (B) in column two, entry three and dropped a footnote reference in column two, entry 11 to Table One. This publication corrects the error in the preamble and amends the regulatory language.

In the August 16, 2006, Federal Register (FR Doc. 06-6953), make the following correction to read as follows:

On page 47077, column 3 in the first line, remove the phrase “as of June 15, 2006.” and add in its place the phrase “as of June 16, 2006.”

List of Subjects in 14 CFR Part 13

Administrative practice and procedure, Air transportation, Hazardous materials transportation, Investigations, Law enforcement, Penalties.

The Amendment

In consideration of the foregoing, the Federal Aviation Administration amends part 13 of Title 14, Code of Federal Regulations, as follows:

PART 13—INVESTIGATIVE AND ENFORCEMENT PROCEDURES

1. The authority citation continues to read as follows:

Authority: 18 U.S.C. 6002, 28 U.S.C. 2461 (note); 49 U.S.C. 106(g), 5121-5124, 40113-40114, 44103-44106, 44702-44703, 44709-44710, 44713, 44718, 44725, 46101-46110, 46301-46316, 46318, 46501-46502, 46504-46507, 47106, 47111, 47122, 47306, 47531-47532.

2. Amend § 13.305 by revising Table 1, entry 3, column 2, and entry 11, column 2, to read as follows:

§ 13.305 Cost of living adjustments of civil monetary penalties.

* * * * *

Table 1.—Table of Minimum and Maximum Civil Monetary Penalty Amounts for Certain Violations Before December 12, 2003, and for Hazardous Materials Violations Before August 10, 2005
United States Code citation | Civil monetary penalty description | Minimum penalty amount | New adjusted minimum penalty amount | Maximum penalty amount when last set or adjusted pursuant to law | New or adjusted maximum penalty amount
* * * * * * *
| Violation under 49 U.S.C. 46301(a)(2)(A) or (B) by a person operating an aircraft for the transportation of passengers or property for compensation (except an airman serving as an airman) |  |  |  |
* * * * * * *
| Carrying a concealed dangerous weapon.¹ |  |  |  |
* * * * * * *
¹ FAA prosecutes violations under this section that occurred before February 17, 2002.

* * * * *

Issued in Washington, DC, on August 28, 2006.
Rebecca MacPherson,
Assistant Chief Counsel.

[FR Doc. 06-7357 Filed 9-5-06; 8:45 am]

BILLING CODE 4910-13-M